DEPARTMENT OF THE INTERIOR

Geological Survey

[GX16RB00FXBRD00]

Agency Information Collection Activities: Request for Comments on the Assessing Public Views of Waterfowl-Related Topics To Inform the North American Waterfowl Management Plan

AGENCY: U.S. Geological Survey (USGS), Interior.

ACTION: Notice of a new information collection, Assessing Public Views of Waterfowl-Related Topics to Inform the North American Waterfowl Management Plan.

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR.

DATES: To ensure that your comments on this ICR are considered, OMB must receive them on or before September 23, 2016.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-NEW Assessing Public Views of Waterfowl-Related Topics to Inform the North American Waterfowl Management Plan'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-NEW: Assessing Public Views of Waterfowl-Related Topics to Inform the North American Waterfowl Management Plan' in all correspondence.

FOR FURTHER INFORMATION CONTACT: Holly Miller, Fort Collins Science Center, U.S. Geological Survey, 2150 Centre Ave., Bldg. C, Fort Collins, CO 80526 (mail); 970-226-9133 (phone); or millerh@usgs.gov (email). You may also find information about this ICR at www.reginfo.gov.

SUPPLEMENTARY INFORMATION:

I. Abstract

The North American Waterfowl Management Plan (NAWMP) is an international agreement signed by the United States Secretary of the Interior, the Canadian Minister of the Environment, and the Mexican Secretary of the Environment and Natural Resources. NAWMP lays out a strategy to restore waterfowl populations in North America through habitat protection, restoration, and enhancement. The 2012 revised goals of NAWMP focused for the first time on people as well as waterfowl and their habitats. Specifically, the plan states that “The needs and desires of people [as they relate to waterfowl] must be clearly understood and explicitly addressed” and calls for more human dimensions research with waterfowl hunters, viewers, and the general public. The plan recognizes the interconnectedness of waterfowl, their habitat, and stakeholders. Without human dimensions information, NAWMP objectives may not reflect stakeholder and societal values, and management and policy decisions may lead to actions that could be either irrelevant or counter to stakeholder and societal expectations.

To meet the goals set forth in the 2012 NAWMP revision, the NAWMP Human Dimensions Working Group has asked the USGS to conduct a mail survey to assess the general public's awareness and perceptions of waterfowl and wetlands, as well as measure participation in recreational activities, conservation behaviors, how people obtain information on nature-related issues, and demographics. Demographics voluntarily collected on the survey will include gender, education, income, and race/ethnicity. Additionally, a representative sample of names and mailing addresses from the general public will be purchased from a survey sampling company which uses publically available information to construct sample lists. To protect the confidentiality and privacy of survey respondents, the demographic information from the survey will not be associated with any respondent's name or mailing address at any time and will only be analyzed and reported in aggregate.

Demographic information collected on the survey will be used to understand if any segments of the American public hold differing views on waterfowl and waterfowl-related topics. For example, there may be differences in awareness and perceptions of waterfowl and wetlands or in participation in recreational activities between men and women. This will enable waterfowl managers and policymakers to better understand and be more responsive to the varied stakeholders they are serving. The data from the survey will be aggregated and statistically analyzed and the results will be published in publically available USGS reports.

The USGS Ecosystems Mission Area is conducting this effort as it aligns with their mission to “work with others to provide the scientific understanding and technologies needed to support the sound management and conservation of our Nation's biological resources.” Specifically, the Ecosystems Mission Area “enters into partnerships with scientific collaborators to produce high-quality scientific information and partnerships with the users of scientific information to ensure this information's relevance and application to real problems.”

II. Data

OMB Control Number: 1028-NEW.

Title: Assessing Public Views of Waterfowl-Related Topics to Inform the North American Waterfowl Management Plan.

Type of Request: Approval of new information collection.

Respondent Obligation: Voluntary.

Frequency of Collection: One time only.

Description of Respondents: General public.

Estimated Total Number of Annual Responses: 1,400.

Estimated Time per Response: We estimate that it will take 20 minutes per person to complete the full survey and 5 minutes per person to complete the non-response survey.

Estimated Annual Burden Hours: 366.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On June 30, 2015, we published a Federal Register notice (80 FR 37292) announcing that we would submit this ICR to OMB for approval and soliciting comments. The comment period closed on August 31, 2015. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask the OMB in your comment to withhold your personal identifying information from public review, we cannot guarantee that it will be done.

Dated: August 16, 2016.
Rudy Schuster,
Fort Collins Science Center Director (Acting).

[FR Doc. 2016-19879 Filed 8-23-16; 8:45 am]

BILLING CODE P